DEPARTMENT OF THE INTERIOR

Bureau of Indian Affairs

[256A2100DD/AAKC001030/A0A51010.999900]

Proclaiming Certain Lands as Reservation for Kickapoo Traditional Tribe of Texas

AGENCY: Bureau of Indian Affairs, Interior.

ACTION: Notice of reservation proclamation.

SUMMARY: This notice informs the public that the Assistant Secretary—Indian Affairs proclaimed approximately 199.73 acres, more or less, an addition to the reservation of the Kickapoo Traditional Tribe of Texas.

DATES: This proclamation was made on December 13, 2024.

FOR FURTHER INFORMATION CONTACT: Ms. Carla Clark, Bureau of Indian Affairs, Division of Real Estate Services, 1001 Indian School Road NW, Box #44, Albuquerque, New Mexico 87104, carla.clark@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be the Kickapoo Traditional Tribe of Texas Reservation for the Kickapoo Traditional Tribe of Texas in Maverick County, Texas.

Kickapoo Traditional Tribe of Texas Reservation, Maverick County, Texas, Legal Descriptions Containing 199.73 Acres, More or Less

Bowles Property 840 ST 1004

The land is described as surface and surface rights only in and to a 199.73 acres tract of land described as a tract of land lying in Maverick County located in the following original surveys:

Original Grantee, G.C.&S.F.RR. Co. Survey 1, Abstract 1008, acres 114.07;

Original Grantee, Winchester Kelso, Survey 2, Abstract 1301, acres 83.38;

Original Grantee, Adolph Haun, Survey 33, Abstract 143, acres 2.28 for a combined total of 199.73 surface acres.

Described as a 199.73 acres tract in conveyance document to the Kickapoo Traditional Tribe of Texas recorded in Volume 667, Pages 370-et seq. of the Maverick County Official Public Records, Maverick County, Texas and being further described by metes and bounds as follows: (the bearings are geodetic north (true north), distances and areas shown hereon are surface, the scale factor to convert from grid to surface is 1.00009324879955236, corners called for as being set are marked on the ground with 1/2” steel stakes with plastic identifications caps stamped “DIRKSEN/6260” attached unless otherwise noted or shown).

Commencing from the ostensible east corner of the Winchester Kelso, Survey 2, Abstract 1301;

Thence S44°50′15″ W 172 feet with the southeast line of Survey 2;

Thence N45°09′44″ W 1157 feet to a steel stake set for The Point of Beginning in the northwest intersection of Rosita Valley Road with El Indio Highway for a northeast corner of the herein described tract;

Thence S44°41′21″ W 3428.67 feet with the north right of way line of Rosita Valley Road to a steel stake found at the southeast corner of Tract 1, Block 9 of the Riverside Acres Subdivision as shown on the plat recorded in Envelope 72, Side A of the Maverick County Plat Records for an east corner of the herein described tract;

Thence N45°10′44″ W 1466.07 feet to a steel stake found marked “RPLS 4134” at north corner of said Tract 1, Block 9 for a reentrant corner of the herein described tract;

Thence S44°36′03″ W 6965.15 feet, with the north line of said Riverside Acres Subdivision at 6914.50 feet passing a steel stake set in line for a reference and continuing to a point on the left bank of the Rio Grande River for the southwest corner of the herein described tract;

Thence with the left bank of the Rio Grande River for the following seven (7) calls;

1. N03°02′46″ W 123.41 feet to a point;

2. N04°59′23″ W 153.66 feet to a point;

3. N04°30′58″ W 131.66 feet to a point;

4. N00°46′17″ W 234.25 feet to a point;

5. N11°40′21″ E 64.20 feet to a point;

6. N00°07′16″ E 126.70 feet to a point;

7. N04°39′17″ W 14.59 feet to a point;

Thence N44°35′56″ E 8001.79 feet at 50.00 feet passing a steel stake set on line for reference and continuing to a 3/4” steel stake found for a northeast corner of the herein described tract;

Thence S45°10′29″ E 1343.42 feet to a steel stake found for a reentrant corner of the herein described tract;

Thence N44°38′46″ E 1616.04 feet to a steel stake set in the south right of way line of El Indio Highway for a northeast corner of the herein described tract;

Thence S59°44′57″ E 759.81 to the Point of Beginning containing 199.73 acres of land with the herein described boundary as survey by Dirksen Engineering of December 8, 2015. The above-described land contains a total of 199.73 acres, more or less, which are subject to all valid rights, reservations, rights-of-way, and easements of record.

The above-described lands contain a total of 199.73 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-30294 Filed 12-18-24; 8:45 am]

BILLING CODE 4337-15-P